DEPARTMENT OF TRANSPORTATION

Federal Railroad Administration

49 CFR Part 234

[Docket No. FRA-2011-0007, Notice No. 2]

RIN 2130-AC26

National Highway-Rail Crossing Inventory Reporting Requirements

AGENCY: Federal Railroad Administration (FRA), Department of Transportation (DOT).

ACTION: Announcement of technical symposium and extension of comment period.

SUMMARY: On October 18, 2012, FRA published a Notice of Proposed Rulemaking (NPRM) on National Highway-Rail Crossing Inventory Reporting Requirements. In the NPRM, FRA announced that it would schedule a technical symposium to give interested parties the opportunity to discuss issues associated with the electronic submission of data to the U.S. DOT National Highway-Rail Crossing Inventory (Crossing Inventory). This notice announces the scheduling of the technical symposium. This notice also extends the NPRM comment period to allow time for interested parties to submit comments after the technical symposium.

DATES: The technical symposium will be held on December 13, 2012 in Washington, DC and will commence at 10 a.m. The comment period in this proceeding is extended to January 31, 2013.

ADDRESSES: (1) Technical Symposium: The technical symposium will be held at the Courtyard by Marriott Capitol Hill/Navy Yard, 140 L Street SE., Washington, DC 20003.

(2) Attendance: Any person wishing to participate in the technical symposium should notify Michelle Silva in FRA's Office of Chief Counsel by telephone, email, or by mail at least five business days prior to the date of the symposium. Ms. Silva's contact information is as follows: FRA, Office of Chief Counsel, Mail Stop 10, 1200 New Jersey Avenue SE., Washington, DC 20590; telephone: 202-493-6030; email: michelle.silva@dot.gov.

For information on facilities or services for persons with disabilities or to request special assistance at the meeting, please contact Larry Woolverton in FRA's Office of Railroad Safety, by telephone (202-493-6212) or email (larry.woolverton@dot.gov).

SUPPLEMENTARY INFORMATION:

Technical Symposium

The purpose of the technical symposium is to facilitate discussion on technical issues associated with the electronic submission of data to the Crossing Inventory. The meeting is not intended as a forum for discussion or comment on any other aspects of the proposed rule. The proposed topics for discussion include the draft Instructions for Submitting U.S. DOT Crossing Inventory Data by Electronic Methods (Electronic Submission Instructions) referenced in the NPRM (and available in the docket at FRA-2011-0007-0005), proposed options for the submission of electronic crossing data to the Crossing Inventory, data formats that would be accepted for the submission of electronic crossing data to the Crossing Inventory, and the proposed timeframe and related concerns associated with meeting the proposed new requirements for the electronic submission of crossing data to the Crossing Inventory. In order to facilitate discussion at the technical symposium, FRA intends to supplement the docket with revised draft Electronic Submission Instructions prior to the symposium. The revised draft Electronic Submission Instructions will contain information on the proposed file formats and data specifications that would need to be followed when preparing electronic crossing data for submission to the Crossing Inventory. Therefore, interested parties are advised to review, prior to attending the technical symposium, the draft revised Electronic Submission Instructions that will be placed in the docket. Parties are reminded that the docket (No. FRA-2011-0007) can be accessed via the Internet at www.regulations.gov.

A transcript of the technical symposium will be taken and placed in the public docket of this proceeding.

Public Participation Procedures

Any person wishing to participate in the technical symposium should notify FRA by telephone, email, or mail as provided in the Attendance section of this notice at least five business days prior to the date of the technical symposium. The notification should identify the docket number of this proceeding (Docket No. FRA-2011-0007), as well as the organization the person represents (if any) and the particular issues associated with electronic data submission that the person plans to address. The notification should also provide a phone number, mailing address, and email address (if applicable) at which the registrant can be reached.

Extension of Comment Period

To afford interested parties the opportunity to submit comments in response to views or information provided at the technical symposium, FRA is extending the comment period in this proceeding to January 31, 2013.

Issued in Washington, DC, on November 9, 2012.
Jo Strang,
Associate Administrator for Railroad Safety/Chief Safety Officer.

[FR Doc. 2012-27976 Filed 11-15-12; 8:45 am]

BILLING CODE 4910-06-P